DEPARTMENT OF ENERGY

Federal Energy Regulatory Commission

[Docket No. RP07-143-000]

Wasatch Energy, LLC and Northwest Pipeline Corporation; Notice of Joint Petition of Wasatch Energy, LLC, and Northwest Pipeline Corporation for Expedited Grant of Limited Waivers

January 26, 2007.

Take notice that on January 23, 2007, pursuant to Rule 207 of the Commission's Rules of Practice and Procedure, Wasatch Energy, LLC (Wasatch) and Northwest Pipeline Corporation (Northwest) tendered for filing a Joint Petition for Expedited Grant of Limited Waivers.

Wasatch and Northwest petition the Commission for an expedited grant of a limited waiver, to the extent required, of: (i) The Commission's Order No. 636-A policy regarding the “tying” of gas delivery contracts to any extraneous conditions; (ii) the Commission's maximum rate cap on released capacity; (iii) applicable capacity-release tariff provisions of Northwest and other interstate natural gas pipelines identified; and (iv) any further natural gas pipeline tariff provision or Commission policy as may be necessary. Wasatch and Northwest state that the requested waivers will enable them to permanently transfer Wasatch's portfolio of its natural gas marketing operations, including transportation capacity on Northwest and other interstate natural gas pipelines, to Wasatch's Prearranged Replacement Shipper or some other third-party replacement shipper who may prevail in a consolidated auction process supervised by Northwest. Wasatch and Northwest further request expedited action on the requested waivers, so that the transportation releases may be made effective no later than March 30, 2007.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time February 5, 2007.

Magalie R. Salas,
Secretary.

[FR Doc. E7-1668 Filed 2-1-07; 8:45 am]

BILLING CODE 6717-01-P